DEPARTMENT OF THE INTERIOR

National Park Service

[NPS-WASO-NAGPRA-NPS0032471; PPWOCRADN0-PCU00RP14.R50000]

Notice of Inventory Completion: University of Michigan, Ann Arbor, MI

AGENCY: National Park Service, Interior.

ACTION: Notice.

SUMMARY: The University of Michigan has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the University of Michigan. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the University of Michigan at the address in this notice by September 24, 2021.

FOR FURTHER INFORMATION CONTACT: Dr. Ben Secunda, NAGPRA Project Manager, University of Michigan, Office of Research, 4080 Fleming Building, 503 Thompson Street, Ann Arbor, MI 48109-1340, telephone (734) 647-9085, email bsecunda@umich.edu.

SUPPLEMENTARY INFORMATION: Notice is here given in accordance with the Native American Graves Protection and Repatriation Act (NAGPRA), 25 U.S.C. 3003, of the completion of an inventory of human remains and associated funerary objects under the control of the University of Michigan, Ann Arbor, MI. The human remains and associated funerary objects were removed from the Riverside Cemetery site (20ME1), Menominee County, MI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of Michigan Museum of Anthropological Archaeology (UMMAA) professional staff in consultation with representatives of the Hannahville Indian Community, Michigan; Keweenaw Bay Indian Community, Michigan; Lac Vieux Desert Band of Lake Superior Chippewa Indians of Michigan; Little Shell Tribe of Chippewa Indians of Montana; Match-e-be-nash-she-wish Band of Pottawatomi Indians of Michigan; Menominee Indian Tribe of Wisconsin; Minnesota Chippewa Tribe, Minnesota (Mille Lacs Band); Nottawaseppi Huron Band of the Potawatomi, Michigan [previously listed as Huron Potawatomi, Inc.]; and the Pokagon Band of Potawatomi Indians, Michigan and Indiana (hereafter referred to as “The Consulted Tribes”).

The Bad River Band of the Lake Superior Tribe of Chippewa Indians of the Bad River Reservation, Wisconsin; Chippewa Cree Indians of the Rocky Boy's Reservation, Montana [previously listed as Chippewa-Cree Indians of the Rocky Boy's Reservation, Montana]; Citizen Potawatomi Nation, Oklahoma; Forest County Potawatomi Community, Wisconsin; Lac Courte Oreilles Band of Lake Superior Chippewa Indians of Wisconsin; Lac du Flambeau Band of Lake Superior Chippewa Indians of the Lac du Flambeau Reservation of Wisconsin; Minnesota Chippewa Tribe, Minnesota (Bois Forte Band (Nett Lake); Fond du Lac Band; Grand Portage Band; Leech Lake Band; White Earth Band); Prairie Band Potawatomi Nation [previously listed as Prairie Band of Potawatomi Nation, Kansas]; Quechan Tribe of the Fort Yuma Indian Reservation, California & Arizona; Red Cliff Band of Lake Superior Chippewa Indians of Wisconsin; Red Lake Band of Chippewa Indians, Minnesota; Sokaogon Chippewa Community, Wisconsin; St. Croix Chippewa Indians of Wisconsin; and the Turtle Mountain Band of Chippewa Indians of North Dakota were invited to consult but did not participate (hereafter referred to as “The Invited Tribes”).

History and Description of the Remains

In 1956-57, human remains representing, at minimum, nine individuals were removed from the Riverside Cemetery site (20ME1) in Menominee County, MI, by UMMAA archeologist A.C. Spaulding. Spaulding excavated the multi-component site, and it was later excavated by others on multiple occasions (the UMMAA does not possess all of the human remains and items excavated from the Riverside Cemetery site. The human remains belong to one child 5-9 years old, of indeterminate sex; one cremated young adult 17-19 years old, of indeterminate sex; one adult male 30+ years old; one adult of indeterminate sex; one cremated infant; and four cremated adults of indeterminate sex. No known individuals were identified. The 25 associated funerary objects are one lot of small, white perforated flat beads; one lot of conical copper points; one lot of small, flat, and irregular-shaped copper fragments; one lot of faunal bone fragments and charcoal; one lot of shouldered projectile points; one lot of copper points/cones; one lot of small, heavy copper fragments; one lot of projectile point tip fragments; one lot of faunal bone fragments, bark fragments, and red ochre; one lot of large, red ochre-stained obsidian cores; one lot of copper beads and bark fragments; one lot of red ochre-stained flint scrapers and flakes; one lot of red ochre-stained rounded whetstones; one lot of copper awls; one lot of socketed copper spears; one lot of flat-stemmed or fish-tailed copper projectile points; one lot of red ochre-covered chert projectile points; one lot of wood fragments; one lot of red ochre-covered beaver tooth fragments; one lot of red ochre-coated wood and bone fragments; one lot of red ochre- and copper-stained faunal bone fragments; one lot of dog cranium fragments with vials of red ochre; one lot of red ochre-stained and perforated lynx scapula fragments; one lot of flat-stemmed copper projectile points and wood fragments; and one lot of red ochre-stained faunal scapulae.

The Riverside Cemetery site has evidence of occupation dating from the Late Archaic (2550-300 B.C.) through the Late Woodland Period (A.D. 500-1100). Two components—Features 6 and 14—are associated with burials belonging to the Old Copper Culture of the Late Archaic/Early Woodland Period, based on diagnostic artifacts. Three different burial treatments were noted at the site: Cremations, burial in red ochre, and burial without ochre. Feature 6 contained a flexed burial with red ochre and copper points. The cranium of a dog was found near the pelvis of the individual. Ochre covered the entire skeleton, but was thicker over the head and legs, in a lens suggesting the body was wrapped in a skin or bark. A bundle was found with flints, beaver teeth, antler shaft wrench, copper points, flint points, wood, animal bone, and a smoothing stone. Feature 2, which was located near Feature 6, was identified by red ochre staining. Cremated human remains were present that were disturbed and incomplete. Above this cremation were several cord-marked pottery sherds as well as a fluted axe however the association between these objects and the burial is described as uncertain due to the distance of the objects from the human remains. Excavation Unit 4 was reported as badly disintegrated bone. The human remains were cremated and calcined. Feature 13, a disturbed pit containing calcined bones, contained no artifacts. Feature 14 contained ochre-stained sand in a pit. At the bottom of the pit was a large block of obsidian resting on strands of heavy copper beads which were wrapped in bark. Beneath the obsidian and copper beads was a pile of crushed cremated bones deposited on top of bark which lined the bottom of the pit. The bark was noted by the fibrous structures in organic material; however, it was too fragile to collect. The strands of copper beads appeared to loop back and forth upon the cremated bones. Features 11 and 12 were two pits that came together, both containing red ochre and small fragments of human bone and a conical copper point.

The human remains have been determined to be Native American based on dental traits, mortuary treatment, diagnostic artifacts, and archeological context. A relationship of shared group identity can be reasonably traced between the Native American human remains from this site and the Menominee Indian Tribe of Wisconsin. Menominee tribal experts provided evidence for cultural affiliation based on their long-standing presence in the Menominee River Valley, which they believe establishes ties of territorial ethnicity to these burials. Museum experts believe the burials are associated with Old Copper Culture which geographically includes, but reaches beyond, the Menominee River Valley. However, tribal experts also provided information that suggests there were regional variations within Old Copper Culture, and this pattern points toward an association between these particular burials and the Menominee traditional homelands. After considering the best available information, and in light of the preponderance of the evidence threshold required under the law and regulations, the determination was made that the totality of the various lines of evidence suggest the Menominee are culturally affiliated with these particular burials.

Determinations Made by the University of Michigan

Officials of the University of Michigan have determined that:

• Pursuant to 25 U.S.C. 3001(9), the human remains described in this notice represent the physical remains of nine individuals of Native American ancestry.

• Pursuant to 25 U.S.C. 3001(3)(A), the 25 objects described in this notice is reasonably believed to have been placed with or near individual human remains at the time of death or later as part of the death rite or ceremony.

• Pursuant to 25 U.S.C. 3001(2), there is a relationship of shared group identity that can be reasonably traced between the Native American human remains and associated funerary objects and the Menominee Indian Tribe of Wisconsin.

Additional Requestors and Disposition

Lineal descendants or representatives of any Indian Tribe or Native Hawaiian organization not identified in this notice that wish to request transfer of control of these human remains and associated funerary objects should submit a written request with information in support of the request to Dr. Ben Secunda, NAGPRA Project Manager, University of Michigan, Office of Research, 4080 Fleming Building, 503 Thompson Street, Ann Arbor, MI 48109-1340, telephone (734) 647-9085, email bsecunda@umich.edu, by September 24, 2021. After that date, if no additional requestors have come forward, transfer of control of the human remains and associated funerary objects to the Menominee Indian Tribe of Wisconsin may proceed.

The University of Michigan is responsible for notifying The Consulted Tribes and The Invited Tribes that this notice has been published.

Dated: August 18, 2021.
Melanie O'Brien,
Manager, National NAGPRA Program.

[FR Doc. 2021-18273 Filed 8-24-21; 8:45 am]

BILLING CODE 4312-52-P